DEPARTMENT OF ENERGY

Federal Energy Regulatory Commission

[Docket No. ER02-322-001, et al.]

CinCap Madison, LLC, et al.; Electric Rate and Corporate Regulation Filings

January 28, 2002.

Take notice that the following filings have been made with the Commission. Any comments should be submitted in accordance with Standard Paragraph E at the end of this notice.

1. CinCap Madison, LLC

[Docket Nos. ER02-322-001 and ER01-1784-003]

Take notice that on January 23, 2002, CinCap Madison, LLC (CinCap Madison) tendered for filing with the Federal Energy Regulatory Commission (Commission) an amendment to its notice of change in status and an amendment to the market-based rate tariff and code of conduct.

Comment Date: February 13, 2002.

2. CH Resources, Inc.

[Docket No. ER99-1001-002]

Take notice that on January 23, 2002, WPS Power Development, Inc. (PDI) on behalf of CH Resources, Inc. (CH Resources) tendered for filing with the Federal Energy Regulatory Commission (Commission) a notice of change in status under CH Resources' market-based rate authority to reflect PDI's acquisition of CH Resources from Central Hudson Energy Services, Inc.

Comment Date: February 13, 2002.

3. Public Service Company of New Mexico

[Docket No. EC02-43-000]

Take notice that on January 22, 2002, Public Service Company of New Mexico (PNM) submitted for filing an application under section 203 of the Federal Power Act for approval of the reacquisition by PNM of legal title to a portion of the Eastern Interconnection Project, a 216 mile, 345 kV transmission line currently leased by PNM pursuant to a sale and lease-back transaction through the acquisition by PNM of all of the outstanding shares of the entity that owns the facilities, and the termination of a non-jurisdictional lease associated with that portion of the facilities.

Comment Date: February 12, 2002.

4. Central Hudson Energy Services, Inc., CH Resources, Inc., WPS Power Development

[Docket No. EC02-44-000]

Take notice that on January 23, 2002, Central Hudson Energy Services, Inc. (CHES), CH Resources, Inc. (CH Resources) and WPS Power Development, Inc. (PDI), filed with the Federal Energy Regulatory Commission an application pursuant to Section 203 of the Federal Power Act for authorization to transfer by sale 100% of the outstanding securities of CH Resources from CHES to PDI. The Applicants have requested Commission approval of the proposed transaction to permit the Applicants to close after March 22, 2002 after the receipt of all necessary regulatory approvals and satisfaction of other closing conditions.

Comment Date: February 13, 2002.

5. Westcoast Power Holdings Inc.

[Docket No. EG02-69-000]

Take notice that on January 23, 2002, Westcoast Power Holdings Inc. (Applicant) filed with the Federal Energy Regulatory Commission (Commission) an application for determination of exempt wholesale generator status pursuant to part 365 of the Commission's regulation.

The applicant states that it is a Canadian company who is engaged directly and exclusively in developing, owning, and operating a gas-fired 110 MW combined cycle power plant in Ontario, Canada, which will be an eligible facility.

Comment Date: February 19, 2002.

6. Shanghai WEI-Gang Energy Company Ltd.

[Docket No. EG02-70-000]

Take notice that on January 23, 2002, Shanghai WEI-Gang Energy Company Ltd. filed with the Federal Energy Regulatory Commission (Commission) an application for determination of exempt wholesale generator status pursuant to Section 365 of the Commission's regulations.

The applicant states that it is a Sino-foreign cooperative joint venture that is engaged directly and exclusively in developing, owning, and operating a gas-fired 50 MW simple cycle power plant in Shanghai, China, which will be an eligible facility.

Comment Date: February 19, 2002.

7. McMahon Project Joint Venture

[Docket No. EG02-71-000]

Take notice that on January 23, 2002, the McMahon Project Joint Venture filed with the Federal Energy Regulatory Commission an application for determination of exempt wholesale generator status pursuant to part 365 of the Commission's regulations.

The applicant states that it is a joint venture that is engaged directly and exclusively in developing, owning, and operating a gas-fired 117 MW combined cycle power plant in British Columbia, Canada, which is an eligible facility.

Comment Date: February 19, 2002.

8. Capital District Energy Center Cogeneration Associates

[Docket No. EG02-72-000]

Take notice that on January 23, 2002, Capital District Energy Center Cogeneration Associates (CDECCA), a Connecticut general partnership with its principal place of business in Houston, Texas, filed with the Federal Energy Regulatory Commission an application for determination of exempt wholesale generator status pursuant to part 365 of the Commission's regulations.

CDECCA describes the facts as follows: It owns and operates an approximate 56-MW natural gas-fired, combined-cycle, independent power production facility in Hartford, Connecticut (the Facility); and electric energy produced by the Facility will be sold by CDECCA to the wholesale power market operated by ISO-New England and any successor organization(s).

Comment Date: February 19, 2002.

9. Bayside Power L.P.

[Docket No. EG02-73-000]

Take notice that on January 23, 2002, Bayside Power L.P. (Bayside), a limited partnership organized under the laws of the Province of New Brunswick, Canada and with its principal place of business at 509 Bayside Drive, Saint John, New Brunswick, Canada, filed with the Federal Energy Regulatory Commission (Commission) an application for determination of exempt wholesale generator status pursuant to part 365 of the Commission's regulations.

Bayside states that it owns and/or leases and operates a 280-MW combined cycle, natural gas-fired electric generation facility located at the site of New Brunswick Power Corporation's Courtenay Bay Generating Station in Saint John, New Brunswick, Canada and that all sales by Bayside of power from the facility will be exclusively at wholesale.

Comment Date: February 19, 2002.

10. LG&E Capital Trimble County LLC

[Docket No. EG02-74-000]

Take notice that on January 24, 2002, LG&E Capital Trimble County LLC (Applicant), a Delaware limited liability company with its principal place of business at 220 West Main Street, Louisville, Kentucky 40202, filed with the Federal Energy Regulatory Commission (Commission) an application for determination of exempt wholesale generator status pursuant to part 365 of the Commission's regulations.

Applicant proposes to construct, own and operate two 152 MW (summer rating) combustion turbine electric generating units in Trimble County, Kentucky. The units are expected to be in service by May 2002. All capacity and energy from the plant will be sold exclusively at wholesale.

Comment Date: February 19, 2002.

11. Thoroughbred Generating Company, LLC

[Docket No. EG02-75-000]

Take notice that on January 23, 2002, Thoroughbred Generating Company, LLC (Thoroughbred) with a principle place of business at 701 Market Street, Suite 900, St. Louis, MO 63101, filed with the Federal Energy Regulatory Commission (Commission) an Application for Determination of Exempt Wholesale Generator Status pursuant to part 365 of the Commission's regulations.

Thoroughbred states that it is a wholly owned subsidiary of Peabody Energy Corporation, a private-sector coal company. Thoroughbred filed its Application in conjunction with the proposed construction of two 750 MW “mine-mouth” pulverized coal generating units to be located in Muhlenberg County, Kentucky.

Comment Date: February 19, 2002.

12. Ameren Energy Generating Company

[Docket No. EG02-76-000]

Take notice that on January 25, 2002, Ameren Energy Generating Company (AEG) One Ameren Plaza, 1901 Chouteau Plaza, P. O. Box 66149, St. Louis, Missouri, 63166-6149, tendered for filing with the Federal Energy Regulatory Commission (Commission) an application for determination of exempt wholesale generator status pursuant to Section 381.801 of the Commission's regulations, 18 CFR 381.801.

AEG states that it repowered the Grand Tower, Illinois Unit 2/4, as further detailed in the application. The unit is now a 270 MW Natural gas-fired combustion turbine unit, which began commercial operations on December 6, 2001. AEG also submits certain information intended to correct a minor error contained in an earlier application. AEG states that all of the electric energy from the affected units will be sold at wholesale.

Comment Date: February 19, 2002.

13. San Diego Gas & Electric Company

[Docket No. EL02-54-000]

Take notice that on January 22, 2002, San Diego Gas & Electric Company filed a Petition for a Declaratory Order in the above-captioned proceeding.

Comment Date: February 19, 2002.

14. CinCap VII, LLC

[Docket Nos. ER02-319-001 and ER00-1831-003]

Take notice that on January 23, 2002, CinCap VII, LLC tendered for filing an amendment to its notice of change in status and an amendment to the market-based rate tariff and code of conduct.

Comment Date: February 23, 2002.

15. American Ref-Fuel Company of Delaware Valley, L.P.; American Ref-Fuel Company of Niagara, L.P.; Bridgeport Energy, LLC.; Casco Bay Energy Company, LLC; Duke Energy Hinds, LLC; Duke Energy Lee, LLC; Duke Energy Moapa, LLC; Duke Energy Mohave, LLC; Duke Energy Morro Bay, LLC; Duke Energy Moss Landing, LLC; Duke Energy Oakland LLC; Duke Energy Power Marketing, LLC; Duke Energy St. Francis, LLC; Duke Energy St. Lucie, LLC; Duke Energy South Bay LLC; Duke Energy Trading and Marketing, L.L.C.; Duke Energy Trenton, LLC; Duke Energy Vermillion, LLC; Duke Energy Washoe, LLC; Duke/Louis Dreyfus L.L.C.; DukeSolutions, Inc.; Griffith Energy, LLC; New Albany Power I, LLC;

[Docket Nos. ER00-2677-001; ER01-1302-002; ER98-2783-004; ER99-2482-001; ER99-3822-001; ER01-691-002; ER01-545-002; ER01-1208-002; ER01-1619-003; ER98-2681-003; ER98-2680-003; ER98-2682-003; ER01-1129-002; ER99-3118-001; ER00-2225-001; ER99-1785-002; ER97-3858-001; ER99-2930-001; ER00-1113-001; ER00-1782-002; ER00-1783002; ER01-241-001; ER96-108-021; ER98-3813-008; ER00-3696-002; and ER01-2746-002]

Take notice that on January 23, 2002, the above noted affiliates of Duke Energy Corporation (the Duke Affiliates) filed a notice of status change with the Federal Energy Regulatory Commission in connection with the pending change in upstream control of Engage Energy America LLC and Frederickson Power L.P. resulting from a transaction involving Duke Energy Corporation and Westcoast Energy Inc.

Copies of the filing were served upon all parties on the official service lists compiled by the Secretary of the Federal Energy Regulatory Commission in these proceedings.

Comment Date: February 13, 2002.

16. Delmarva Power & Light Company

[Docket No. ER02-797-000]

Take notice that on January 23, 2002, Delmarva Power & Light Company (Delmarva) tendered for filing an Interconnection Agreement between Delmarva and Conectiv Delmarva Generation, Inc. (CDG). The Interconnection Agreement provides for the interconnection of CDG's Hay Road 5, Hay Road 6, Hay Road 7, and Hay Road 8 generating facilities with the Delmarva transmission system.

Delmarva respectfully requests that the Interconnection Agreement become effective on January 23, 2002.

Copies of the filing were served upon the Delaware Public Service Commission, the Maryland Public Service Commission and the Virginia State Corporation Commission.

Comment Date: February 13, 2002.

17. Thoroughbred Generating Company, LLC

[Docket No. ER02-814-000]

Take notice that on January 23, 2002, Thoroughbred Generating Company, LLC (Thoroughbred), an wholly owned subsidiary of Peabody Energy Corporation, tendered for filing a Petition seeking the Commission's approval of Thoroughbred Rate Schedule FERC No. 1, a rate schedule to engage in sales at market-based rates, and seeking the waiver of certain Commission regulations.

Comment Date: February 13, 2002.

18. Midwest Independent Transmission System Operator, Inc.

[Docket No. ER02-816-000]

Take notice that on January 23, 2002, Midwest Independent Transmission System Operator, Inc. (Midwest ISO) submitted for filing a Notice of Succession for certain Transmission Serve Agreements and Network Transmission Service and Operating Agreements held by Cinergy Services, Inc.

Copies of this filing were sent to all applicable customers under the Cinergy Open Access Transmission Tariff.

Comment Date: February 13, 2002.

19. Entergy Services, Inc.

[Docket No. ER02-817-000]

Take notice that on January 23, 2002, Entergy Services, Inc., (Entergy Services) on behalf of Entergy Arkansas, Inc., Entergy Gulf States, Inc., Entergy Louisiana, Inc., Entergy Mississippi, Inc., and Entergy New Orleans, Inc., tendered for filing a Service Agreement for Network Integration Transmission Service and a Network Operating Agreement between Entergy Services and Entergy-Koch Trading, LP.

Comment Date: February 13, 2002.

20. Allegheny Energy Service Corporation on Behalf of Allegheny Energy Supply Company, LLC

[Docket No. ER02-833-000]

Take notice that on January 23, 2002, Allegheny Energy Service Corporation on behalf of Allegheny Energy Supply Company, LLC (Allegheny Energy Supply) filed Service Agreement No. 155 to add one (1) new Customer to the Market Rate Tariff under which Allegheny Energy Supply offers generation services. Allegheny Energy Supply proposes to make service available as of December 31, 2001 to Old Dominion Electric Cooperative.

Copies of the filing have been provided to the Maryland Public Service Commission, the Virginia State Corporation Commission, and all parties of record.

Comment Date: February 13, 2002.

21. Armstrong Energy Limited Partnership, LLLP, Pleasants Energy, LLC, Troy Energy, LLC

[Docket No. ER02-835-000, ER02-836-000, ER02-837-000]

Take notice that on January 23, 2002, Armstrong Energy Limited Partnership, LLLP, Pleasants Energy, LLC and Troy Energy, LLC filed Service Agreements with Virginia Electric and Power Company. It is requested that the effective date of these Service Agreements will be January 24, 2002.

Copies of the filing were served upon the Virginia State Corporation Commission, the North Carolina Utilities Commission, the Ohio Public Utilities Commission and the Pennsylvania Public Utility Commission.

Comment Date: February 13, 2002.

22. American Electric Power Service Corporation

[Docket No. ER02-838-000]

Take notice that on January 23, 2002, the American Electric Power Service Corporation (AEPSC) tendered for filing twelve (12) non-redacted, confidential copies and eleven (11) redacted, non-confidential copies of Service Agreements for the sale of power by AEPSC which are greater than one year in length. The Power Sales Tariffs were accepted for filing effective October 10, 1997 and has been designated AEP Operating Companies' FERC Electric Tariff Original Volume No. 5 (Wholesale Tariff of the AEP Operating Companies) and FERC Electric Tariff Original Volume No. 8, Effective January 8, 1998 in Docket ER 98-542-000 (Market-Based Rate Power Sales Tariff of the CSW Operating Companies).

AEPSC respectfully requests waiver of notice to permit the attached Service Agreements to be made effective on or prior to January 1, 2002. A copy of the filing was served upon the Parties and the State Utility Regulatory Commissions of Arkansas, Indiana, Kentucky, Louisiana, Michigan, Ohio, Oklahoma, Tennessee, Texas, Virginia and West Virginia.

Comment Date: February 13, 2002.

23. Entergy Services, Inc.

[Docket No. ER02-405-001]

Take notice that on January 23, 2002, Entergy Services, Inc. (Entergy Services), on behalf of Entergy Mississippi, Inc. (Entergy Mississippi) tendered for filing an amendment to Entergy Services' November 26, 2001, filing of an unexecuted amended Interconnection and Operating Agreement (Amended Interconnection Agreement) between Entergy Mississippi and Duke Energy Hinds, LLC (Duke). The amendment supplies additional information supporting the classifications of the Optional System upgrades identified in the appendices of the Amended Interconnection Agreement and the Interconnection Facilities identified in the original executed Interconnection and Operating Agreement between Entergy Mississippi and Duke

Comment Date: February 13, 2002.

24. New England Power Company

[Docket No. ER96-237-003]

Take notice that on January 23, 2002, New England Power Company (NEP) submitted for filing a Refund Report along with supporting documents. The refunds were made in compliance with an order issued in the above-referenced docket.

NEP states that copies of the Refund Report have been served on the persons listed on the official service list for this proceeding, the Massachusetts Department of Telecommunications and Energy, Massachusetts Municipal Wholesale Electric Company and Norwood Municipal Light Department.

Comment Date: February 13, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C. B. Spencer,
Acting Secretary.

[FR Doc. 02-2559 Filed 2-1-02; 8:45 am]

BILLING CODE 6717-01-P